NATIONAL SCIENCE FOUNDATION

Advisory Committee for Polar Programs; Notice of Meeting

In accordance with Federal Advisory Committee Act (Pub. L. 92-463, as amended), the National Science Foundation announces the following meeting:

Name: Office of Polar Programs Advisory Committee (1130).

Date/Time: October 2, 2003; 8 a.m. to 5 p.m., October 3, 2003; 8:30 a.m. to 2 p.m.

Place: National Science Foundation, 4201 Wilson Blvd.,—Room: 1235, Arlington, VA.

Type of Meeting: Open.

Contact Person: Brenda Williams, Office of Polar Programs (OPP), National Science Foundation, 4201 Wilson Boulevard, Arlington, VA 22230. (703) 292-8030.

Minutes: May be obtained from the contact person list above.

Purpose of Meeting: To advise NSF on the impact of its policies, programs and activities on the polar research community; to provide advice to the Director of OPP on issues related to long range planning, and to form ad hoc subcommittees to carry out needed studies and tasks.

Agenda: October 2: Staff presentations on programs. Discussion on polar activities (IPY, long range planning). Arctic/Antarctic Sciences Committee of Visitors.

October 3: Continuation of discussion on polar activities and committee of visitors.

Dated: September 9, 2003.
Susanne Bolton,
Committee Management Officer.

[FR Doc. 03-23368 Filed 9-12-03; 8:45 am]

BILLING CODE 7555-01-M